DEPARTMENT OF EDUCATION

List of Correspondence From January 1, 2023, Through December 31, 2023

AGENCY: Office of Special Education and Rehabilitative Services, Department of Education.

ACTION: Notice.

SUMMARY: The U.S. Department of Education (Department), Office of Special Education Programs (OSEP) is publishing the following list of correspondence from the Department during quarters one, two, three, and four of calendar year 2023. The correspondence describes the Department's interpretations of the Individuals with Disabilities Education Act (IDEA) or the regulations that implement IDEA. These letters or other documents described in this list, with personally identifiable information redacted, as appropriate, can be found at https://sites.ed.gov/idea/policy-guidance/.

FOR FURTHER INFORMATION CONTACT: Daniel Schreier, U.S. Department of Education, 400 Maryland Avenue SW, Room 4A10, Washington, DC 20024-2500. Telephone:(202) 245-6352. Email: daniel.schreier@ed.gov.

If you are deaf, hard of hearing, or have a speech disability and wish to access telecommunications relay services, please dial 7-1-1.

SUPPLEMENTARY INFORMATION: The following list identifies correspondence for four quarters, January 1, 2023, through December 31, 2023. Under section 607(f) of IDEA, the Secretary is required to publish in the Federal Register a list of correspondence issued to individuals. In the interest of transparency, the following list includes not only those letters that are required to be published under section 607(f) of IDEA, but also includes guidance, letters, and other documents that contain interpretations of the requirements of IDEA and its implementing regulations, as well as information that the Department believes will assist the public in understanding the requirements of the law. To protect the privacy interests of the individual or individuals involved, personally identifiable information has been redacted, as appropriate.

Guidance and Related Documents Issued by OSEP

Section 612 State Eligibility; Section 635 Requirements for a Statewide System; Section 637 State Application and Assurances

○ Dear Colleague Letter and guidance dated July 24, 2023, titled, Guidance on State General Supervision Responsibilities under Parts B and C of the IDEA, providing States with necessary information to exercise their general supervision responsibilities under IDEA and to ensure appropriate monitoring, technical assistance, and enforcement regarding local programs.

○ Dear Colleague Letter dated November 9, 2023 to State Directors of Special Education and State Part C Coordinators to provide resources to support parents and families of military-connected children with disabilities.

○ Guidance dated November 28, 2023, titled, 2023 Early Childhood Transition Questions and Answers, to assist State lead agencies, early intervention services programs and providers, State educational agencies, and local educational agencies in ensuring a seamless transition for children with disabilities who received early intervention services under IDEA Part C to eligibility for and receipt of preschool services under IDEA Part B.

○ Policy Statement dated November 28, 2023, titled, Inclusion of Children with Disabilities in Early Childhood Programs, issued jointly with the U.S. Department of Health and Human Services to make clear that all young children with disabilities should have access to inclusive high-quality early childhood programs, where they are provided with individualized and appropriate support in meeting high expectations.

OSEP Letters to Individuals

2023—First Quarter

Part B—Assistance for Education of All Children With Disabilities

Section 612—State Eligibility

Topic Addressed: State Educational Agency General Supervisory Authority

○ Letter dated March 2, 2023, to Callie Oettinger, regarding the use of the State complaint provisions under the IDEA to resolve individual and systemic complaints filed on behalf of a student who has graduated.

Part C—Early Intervention Program for Infants and Toddlers With Disabilities, Part B—Assistance for Education of All Children With Disabilities

Section 635—Requirements for Statewide System; Section 637 State Application and Assurances; Section 612 State Eligibility

Topic Addressed: Implementation of a Statewide System, and Early Childhood Transition Requirements

○ Letter dated March 17, 2023, to Jennifer Nix, addressing the responsibilities of the IDEA Part C lead agency, IDEA Part B State educational agency, and the local educational agencies when children with disabilities transition from receiving early intervention services under Part C of the IDEA to being eligible for and receiving preschool services under Part B of the IDEA, including early childhood transition requirements related to transition plans, transition notification, transition conferences, referral and late referrals, and reporting responsibilities.

2023—Second Quarter

No letters.

2023—Third Quarter

No letters.

2023—Fourth Quarter

Part B—Assistance for Education of All Children With Disabilities

Section 612—State Eligibility

Topic Addressed: Children in Private Schools

○ Letter dated November 7, 2023, to Katie Jenner, addressing how to determine the location of virtual private schools for purposes of providing equitable services to eligible students enrolled in virtual private schools and, as applicable, their teachers and other educational personnel, under the Elementary and Secondary Education Act of 1965 (ESEA) and Part B of the IDEA.

○ Letter dated November 7, 2023, to Jill Underly, addressing how to determine the location of virtual private schools for purposes of providing equitable services to eligible students enrolled in virtual private schools and, as applicable, their teachers and other educational personnel, under the ESEA and Part B of the IDEA.

Accessible Format: On request to the person listed under FOR FURTHER INFORMATION CONTACT, individuals with disabilities can obtain a copy of this notice and the letters or other documents described in this notice in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary, Office of Special Education and Rehabilitative Services.

[FR Doc. 2024-11102 Filed 5-20-24; 8:45 am]

BILLING CODE 4000-01-P